DEPARTMENT OF THE INTERIOR

National Park Service

Long Walk National Historic Trail Study, Environmental Impact Statement, Arizona, New Mexico

AGENCY: National Park Service, Department of the Interior.

ACTION: Notice of Intent to prepare an Environmental Impact Statement for the Long Walk National Historic Trail Study.

SUMMARY: Pursuant to the National Environmental Policy Act of 1969, 42 U.S.C. 4332(C), the National Park Service (NPS) is preparing an Environmental Impact Statement for the Long Walk National Historic Trail Study, Arizona and New Mexico. This effort will result in a study that recommends to Congress whether the Long Walk of the Mescalero Apache and Navajo People should be designated a national historic trail. It will also propose alternative means of commemoration should it not be recommended for national historic trail designation. The plan will be developed in consultation with the Mescalero Apache Tribe, the Navajo Nation, the associated American Indian Tribes in the southwest, local communities along the routes of the Long Walk, other federal and state agencies and all other interested and affected organizations and individuals. The area involved includes but is not limited to: the Navajo Reservation in northeastern Arizona from the Grand Canyon area east to the New Mexico state line including Chinle and Window Rock, Arizona. The area in New Mexico includes but is not limited to: the vicinity of Gallup, Grants, Bosque Farms, Albuquerque, Santa Fe, Galisteo, Las Vegas, Fort Union National Monument, Anton Chico, Fort Sumner, and Mescalero, New Mexico. Alternatives to be considered include no-action, designation as a national historic trail, alternative means of commemoration other than national historic trail designation, and other ideas that come out of the public process.

Major issues include: routes of the Long Walk, resources to be preserved along the route, whether the Mescalero Apache Tribe and the Navajo Nation are in favor of national historic trail designation, and how best to preserve and interpret the related events of that period.

A scoping newsletter has been prepared that gives times, places, and dates of public meetings that will be held on the study. It also details the issues identified to date. Copies of that newsletter may be obtained from Harry Myers, NPS, P.O. Box 728, 1100 Old Santa Fe Trail, Santa Fe, New Mexico 87504-0728, (505) 988-6717, harry_myers@nps.gov.

DATES: The Park Service will accept comments from the public through August 11, 2003.

ADDRESSES: Information will be available for public review and comment in the office of the Superintendent, and at the following locations: Jere Krakow, Superintendent, IMR National Trails System Office, P.O. Box 728, 1100 Old Santa Fe Trail, Santa Fe, New Mexico 87504-0728, (505) 988-6888.

FOR FURTHER INFORMATION CONTACT: Harry Myers, P.O. Box 728, Santa Fe, New Mexico 87504-0728, (505) 988-6717, harry_myers@nps.gov.

SUPPLEMENTARY INFORMATION: If you wish to comment on the scoping brochure or on any other issues associated with the plan, you may submit your comments by any one of several methods. You may mail comments to Harry Myers, National Trails System Office—Santa Fe, P.O. Box 728, Santa Fe, New Mexico 87504-0728. You may also comment via the Internet to harry_myers@nps.gov. Please submit Internet comments as an ASCII file avoiding the use of special characters and any form of encryption. Please also include “Attn: Long Walk” and your name and return address in your Internet message. If you do not receive a confirmation from the system that we have received your Internet message, contact us directly at National Trails System Office—Santa Fe, (505) 988-6717. Finally, you may hand-deliver comments to National Park Service, Old Santa Fe Trail Building Room 116, 1100 Old Santa Fe Trail, Santa Fe, New Mexico, 87501. Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: June 9, 2003.
Michael D. Snyder,
Deputy Director, Intermountain Region, National Park Service.

[FR Doc. 03-17548 Filed 7-10-03; 8:45 am]

BILLING CODE 4310-14-P